INTERNATIONAL TRADE COMMISSION

[Investigation No. 337-TA-1220]

Certain Filament Light-Emitting Diodes and Products Containing Same (II); Institution of Investigation

AGENCY: U.S. International Trade Commission.

ACTION: Notice.

SUMMARY: Notice is hereby given that a complaint was filed with the U.S. International Trade Commission on August 31, 2020, under section 337 of the Tariff Act of 1930, as amended, on behalf of The Regents of the University of California, Oakland, California. A supplement to the complaint was filed on September 21, 2020. The complaint alleges violations of section 337 based upon the importation into the United States, the sale for importation, and the sale within the United States after importation of certain filament light-emitting diodes and products containing the same by reason of infringement of certain claims of U.S. Patent No. 9,240,529 (“the '529 patent”); U.S. Patent No. 9,859,464 (“the '464 patent”); U.S. Patent No. 10,593,854 (“the '854 patent”); U.S. Patent No. 10,644,213 (“the '213 patent”); and U.S. Patent No. 10,658,557 (“the '557 patent”). The complaint further alleges that an industry in the United States exists or is in the process of being established as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia Proctor, Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on September 29, 2020, Ordered That—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 6, 8, and 9 of the '529 patent; claims 1, 7, 9, and 10 of the '464 patent; claims 1, 2, and 6 of the '854 patent; claims 1 and 2 of the '213 patent; and claims 1 and 2 of the '557 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “light bulbs containing filament LEDs and lighting products containing filament LEDs”;

(3) For the purpose of the investigation so instituted, the following are hereby named as parties upon which this notice of investigation shall be served:

(a) The complainant is: The Regents of the University of California, 1111 Franklin Street, Oakland, CA 94607.

(b) The respondents are the following entities alleged to be in violation of section 337, and are the parties upon which the complaint is to be served:

General Electric Company, 5 Necco Street, Boston, MA 02210

Consumer Lighting (U.S.) LLC, d/b/a GE Lighting, 1975 Noble Road, East Cleveland, OH 44112

Savant Systems, Inc., 45 Perseverance Way, Hyannis, MA 02601

Home Depot Product Authority, LLC, 2455 Paces Ferry Road, Atlanta, GA 30339

Home Depot U.S.A., Inc., 2455 Paces Ferry Road, Atlanta, Georgia 30339

The Home Depot, Inc., 2455 Paces Ferry Road, Atlanta, Georgia 30339

Feit Electric Company, Inc., 4901 Gregg Road, Pico Rivera, CA 90660

Satco Products, Inc., 110 Heartland Boulevard, Brentwood, NY 11717

IKEA Supply AG, Grtissenweg 15, CH-4133 Pratteln, Switzerland

IKEA U.S. Retail LLC, 420 Alan Wood Road, Conshohocken, PA 19428

IKEA of Sweden AB, Tulpanvagen 8 Almhult, 343 34 Sweden

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 29, 2020.
Lisa Barton,
Secretary to the Commission.

[FR Doc. 2020-21907 Filed 10-2-20; 8:45 am]

BILLING CODE 7020-02-P